DEPARTMENT OF ENERGY

Federal Energy Regulatory Commission

[Docket No. CP99-16-001]

Dauphin Island Gathering Partners; Notice of Proposed Changes In FERC Gas Tariff

April 29, 2004.

Take notice that on April 20, 2004, as supplemented on April 21, 2004, Dauphin Island Gathering Partners (Dauphin Island) tendered for filing as part of its FERC Gas Tariff, First Revised Volume No. 1, the revised tariff sheets identified within the filings, with an effective date of May 20, 2004.

Dauphin Island states that these tariff sheets are being filed to reflect a reference to the incremental charge associated with the lease of Texas Eastern Transmission, LP by Dauphin Island.

Dauphin Island states that copies of the filing are being served on all participants listed on the service list in this proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E4-1022 Filed 5-04-04; 8:45 a.m.]

BILLING CODE 6717-01-P